DEPARTMENT OF ENERGY

Federal Energy Regulatory Commission

Combined Notice of Filings

Take notice that the Commission has received the following Natural Gas Pipeline Rate and Refund Report filings:

Filings Instituting Proceedings

Docket Numbers: CP25-160-000.

Applicants: National Fuel Gas Supply Corporation, Transcontinental Gas Pipe Line Company, LLC.

Description: National Fuel Gas Supply Corporation et. al. submit Joint Abbreviated Application for Approval of Capacity Lease Agreement between National Fuel and Transcontinental Gas Pipe Line Company, LLC.

Filed Date: 3/25/25.

Accession Number: 20250325-5113.

Comment Date: 5 p.m. ET 4/15/25.

Docket Numbers: RP25-739-000.

Applicants: Transwestern Pipeline Company, LLC.

Description: 4(d) Rate Filing: Negotiated Rate Filing—EOG & Hartree to be effective 4/1/2025.

Filed Date: 3/25/25.

Accession Number: 20250325-5136.

Comment Date: 5 p.m. ET 4/7/25.

Docket Numbers: RP25-740-000.

Applicants: Baltimore Gas and Electric Company, et al. v. Columbia Gas Transmission, LLC.

Description: Complaint of Baltimore Gas and Electric Company, et al. v. Columbia Gas Transmission, LLC.

Filed Date: 3/25/25.

Accession Number: 20250325-5194.

Comment Date: 5 p.m. ET 4/24/25.

Docket Numbers: RP25-741-000.

Applicants: Elba Express Company, L.L.C.

Description: Compliance filing: Annual Interruptible Revenue Crediting Report 2025 to be effective N/A.

Filed Date: 3/25/25.

Accession Number: 20250325-5193.

Comment Date: 5 p.m. ET 4/7/25.

Docket Numbers: RP25-742-000.

Applicants: Iroquois Gas Transmission System, L.P.

Description: 4(d) Rate Filing: 3.26.25 Negotiated Rates—United Energy Trading, LLC R-5095-28 to be effective 4/1/2025.

Filed Date: 3/26/25.

Accession Number: 20250326-5034.

Comment Date: 5 p.m. ET 4/7/25.

Docket Numbers: RP25-743-000.

Applicants: Iroquois Gas Transmission System, L.P.

Description: 4(d) Rate Filing: 3.26.25 Negotiated Rates—Radiate Energy LLC R-8115-02 to be effective 4/1/2025.

Filed Date: 3/26/25.

Accession Number: 20250326-5054.

Comment Date: 5 p.m. ET 4/7/25.

Docket Numbers: RP25-744-000.

Applicants: Iroquois Gas Transmission System, L.P.

Description: 4(d) Rate Filing: 3.26.25 Negotiated Rates—Radiate Energy LLC R-8115-03 to be effective 4/1/2025.

Filed Date: 3/26/25.

Accession Number: 20250326-5057.

Comment Date: 5 p.m. ET 4/7/25.

Docket Numbers: RP25-745-000.

Applicants: Trunkline Gas Company, LLC.

Description: 4(d) Rate Filing: Amended Exhibit A with BP Energy Company to be effective 4/1/2025.

Filed Date: 3/26/25.

Accession Number: 20250326-5076.

Comment Date: 5 p.m. ET 4/7/25.

Docket Numbers: RP25-746-000.

Applicants: Transcontinental Gas Pipe Line Company, LLC.

Description: 4(d) Rate Filing: Rate Schedule GSS/LSS Fuel Retention Percentage Tracker Filing—2025 to be effective 4/1/2025.

Filed Date: 3/26/25.

Accession Number: 20250326-5086.

Comment Date: 5 p.m. ET 4/7/25.

Docket Numbers: RP25-747-000.

Applicants: Stagecoach Pipeline & Storage Company LLC.

Description: 4(d) Rate Filing: Negotiated Rate Agreements—Various Shippers Apr 2025 to be effective 4/1/2025.

Filed Date: 3/26/25.

Accession Number: 20250326-5120.

Comment Date: 5 p.m. ET 4/7/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-189-002.

Applicants: Columbia Gulf Transmission, LLC.

Description: Compliance filing: Compliance to Remove NC Agmt—Range Resources to be effective 5/1/2025.

Filed Date: 3/26/25.

Accession Number: 20250326-5110.

Comment Date: 5 p.m. ET 4/7/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 26, 2025.
Carlos D. Clay,
Deputy Secretary.

[FR Doc. 2025-05560 Filed 3-31-25; 8:45 am]

BILLING CODE 6717-01-P